DEPARTMENT OF TRANSPORTATION

Federal Aviation Administration

Notice; Correction

ACTION: Notice; correction.

SUMMARY: The Federal Aviation Administration (FAA) published a Notice of Intent to prepare an Environmental Impact Statement for proposed master plan development at San Diego International Airport—Lindbergh Field in the Federal Register on Thursday, June 21, 2001. The published Notice of Intent omitted two work items that should have been identified under Alternative One.

FOR FURTHER INFORMATION CONTACT: David B. Kessler, AICP, Environmental Protection Specialist, AWP-611.2, Planning Section, Airports Division, Federal Aviation Administration, Western-Pacific Region, PO Box 92007, Los Angeles, California 90009-2007, Telephone: 310/725-3615.

Correction

In the Federal Register issue of Thursday, June 21, 2001, Volume 66, page 33294-33295, make the following specific corrections which are underlined to facilitate the changes: In the second paragraph under the heading Supplementary Information replace the second sentence with the following: “FAA anticipates that the Port of San Diego will publish their Draft EIR during the summer or fall of 2001.” Under the heading “Alternative One—Construct New North Terminal and Cargo Area,” replace the first work item with “Construct new 10-14. Gate North Terminal (approximately 255,000-303,000 square feet).” At the end of the listing of work items for Alternative One, add the following work item: “Construct area for aircraft remaining overnight.”

These changes in the Notice of Intent do not require any changes to the dates and times of the public and governmental agency scoping meetings as published in the Federal Register on June 21, 2001.

Issued in Hawthorne, California on Thursday, June 21, 2001.
Herman C. Bliss,
Manager, Airports Division, Western-Pacific Region, AWP-600.

[FR Doc. 01-16608 Filed 6-29-01; 8:45 am]

BILLING CODE 4910-13-M